DEPARTMENT OF TRANSPORTATION

Federal Aviation Administration

14 CFR Part 39

[Docket No. FAA-2016-0183; Directorate Identifier 2015-SW-016-AD;Amendment 39-18498; AD 2016-08-21]

RIN 2120-AA64

Airworthiness Directives; Kaman Aerospace Corporation

AGENCY: Federal Aviation Administration (FAA), DOT.

ACTION: Final rule.

SUMMARY: We are adopting a new airworthiness directive (AD) for Kaman Aerospace Corporation (Kaman) Model K-1200 helicopters. This AD requires revising the “Flight Limitations—NO LOAD” and “Flight Limitations—LOAD” sections of the rotorcraft flight manual (RFM). This AD was prompted by a report of certain flight maneuvers that may lead to main rotor (M/R) blade to opposing hub contact. These actions are intended to prevent damage to the M/R flight controls and subsequent loss of control of the helicopter.

DATES: This AD is effective May 31, 2016.

ADDRESSES: For service information identified in this final rule, contact Kaman Aerospace Corporation, Old Windsor Rd., P.O. Box 2, Bloomfield, Connecticut 06002-0002; telephone (860) 242-4461; fax (860) 243-7047; or at http://www.kamanaero.com. You may review a copy of the referenced service information at the FAA, Office of the Regional Counsel, Southwest Region, 10101 Hillwood Pkwy., Room 6N-321, Fort Worth, TX 76177.

Examining the AD Docket

You may examine the AD docket on the Internet at http://www.regulations.gov by searching for and locating Docket No. FAA-2016-0183; or in person at the Docket Operations Office between 9 a.m. and 5 p.m., Monday through Friday, except Federal holidays. The AD docket contains this AD, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Kirk Gustafson, Aviation Safety Engineer, Boston Aircraft Certification Office, Engine & Propeller Directorate, FAA, 1200 District Avenue, Burlington, Massachusetts 01803; telephone (781) 238-7190; email kirk.gustafson@faa.gov.

SUPPLEMENTARY INFORMATION:

Discussion

On January 21, 2016, at 81 FR 3344, the Federal Register published our notice of proposed rulemaking (NPRM), which proposed to amend 14 CFR part 39 by adding an AD that would apply to Kaman Model K-1200 helicopters. The NPRM proposed to require revising the “Flight Limitations-NO LOAD” and “Flight Limitations-LOAD” sections of the RFM by inserting a warning and limitations about rearward to forward flight, establishing maximum rearward and sideward flight speeds, and prohibiting weather-vanning takeoffs and departures to turn the helicopter. The NPRM was prompted by a report of a Model K-1200 helicopter turning suddenly and causing blade contact with the hub. The report suggests that a rapid aircraft yaw rate and subsequent yaw arresting maneuver may cause low clearance of the M/R blades with the opposing M/R hub. This condition could cause an M/R blade to strike the opposing rotor's flight controls. The proposed requirements were intended to prevent damage to the M/R flight controls and subsequent loss of control of the helicopter.

The NPRM published with the previous mailing address for the Boston Aircraft Certification Office. We have revised this contact information in this final rule to reflect the new mailing address.

Comments

We gave the public the opportunity to participate in developing this AD, but we did not receive any comments on the NPRM (81 FR 3344, January 21, 2016).

FAA's Determination

We have reviewed the relevant information and determined that an unsafe condition exists and is likely to exist or develop on other products of the same type design and that air safety and the public interest require adopting the AD requirements as proposed.

Related Service Information

Kaman has issued Kaman K-1200 RFM, Revision 5, dated April 14, 2015. This revision of the limitations section of the RFM inserts, for both load operations and no load operations, a warning and limitations about departing from rearward to forward flight, a maximum rearward flight speed of 25 knots, a maximum sideward flight speed of 17 knots, and a prohibition on weather-vanning takeoffs and departures as a method to turn aircraft.

Costs of Compliance

We estimate that this AD will affect 16 helicopters of U.S. Registry. We estimate that operators may incur the following costs in order to comply with this AD. At an average labor rate of $85 per work-hour, we expect revising the RFM will require 0.5 work-hour, for cost of about $43 per helicopter, or $688 for the U.S. fleet.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-08-21 Kaman Aerospace Corporation (Kaman): Amendment 39-18498; Docket No. FAA-2016-0183; Directorate Identifier 2015-SW-016-AD.

(a) Applicability

This AD applies to Model K-1200 helicopters, certificated in any category.

(b) Unsafe Condition

This AD defines the unsafe condition as a main rotor (M/R) blade striking the opposing rotor's flight controls. This condition could result in damage to the M/R flight controls and subsequent loss of control of the helicopter.

(c) Effective Date

This AD becomes effective May 31, 2016.

(d) Compliance

You are responsible for performing each action required by this AD within the specified compliance time unless it has already been accomplished prior to that time.

(e) Required Actions

Within 10 hours time-in-service, revise Section 2 Limitations of the Kaman K-1200 Rotorcraft Flight Manual (RFM) by inserting a copy of this AD into the RFM or by making pen-and-ink changes, as follows:

(1) In the “Flight Limitations—NO LOAD” and “Flight Limitations—WITH LOAD” sections, add the information in Figure 1 to paragraph (e)(1) of this AD.

(2) In the “Flight Limitations—NO LOAD” and “Flight Limitations—WITH LOAD” sections, add the following: Maximum rearward flight speed: 25 knots. Maximum sideward flight speed: 17 knots. Weather-vanning takeoffs/departures as a method to turn aircraft: Prohibited.

(f) Credit for Actions Previously Completed

Incorporating the changes contained in Kaman K-1200 RFM, Revision 5, dated April 14, 2015, before the effective date of this AD is considered acceptable for compliance with the corresponding actions specified in paragraph (e) of this AD.

(g) Alternative Methods of Compliance (AMOCs)

(1) The Manager, Boston Aircraft Certification Office, FAA, may approve AMOCs for this AD. Send your proposal to: Kirk Gustafson, Aviation Safety Engineer, Boston Aircraft Certification Office, Engine & Propeller Directorate, FAA, 1200 District Avenue, Burlington, Massachusetts 01803; telephone (781) 238-7190; email kirk.gustafson@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

Kaman K-1200 RFM, Revision 5, dated April 14, 2015, which is not incorporated by reference, contains additional information about the subject of this final rule. For service information identified in this final rule, contact Kaman Aerospace Corporation, Old Windsor Rd., P.O. Box 2, Bloomfield, Connecticut 06002-0002; telephone (860) 242-4461; fax (860) 243-7047; or at http://www.kamanaero.com. You may review a copy of this service information at the FAA, Office of the Regional Counsel, Southwest Region, 10101 Hillwood Pkwy., Room 6N-321, Fort Worth, TX 76177.

(i) Subject

Joint Aircraft Service Component (JASC) Code: 6710, Main Rotor Control.

Issued in Fort Worth, Texas, on April 15, 2016.
Scott A. Horn,
Acting Manager, Rotorcraft Directorate, Aircraft Certification Service.

[FR Doc. 2016-09434 Filed 4-22-16; 8:45 am]

BILLING CODE 4910-13-P